DEPARTMENT OF ENERGY

Federal Energy Regulatory Commission

Combined Notice of Filings #1

Take notice that the Commission received the following electric corporate filings:

Docket Numbers: EC17-46-000.

Applicants: Pio Pico Energy Center, LLC.

Description: Application of Pio Pico Energy Center, LLC for Approval Under Section 203 of the Federal Power Act with Privileged Confidential Exhibit I.

Filed Date: 12/12/16.

Accession Number: 20161212-5289.

Comments Due: 5 p.m. ET 1/3/17.

Take notice that the Commission received the following electric rate filings:

Docket Numbers: ER12-569-013 ER10-1849-012; ER10-1887-012 ER10-1920-014; ER10-1928-014; ER10-1952-012 ER10-1961-012; ER10-1971-031; ER10-2720-014 ER11-2037-012; ER11-4428-014; ER11-4462-022 ER12-1228-014; ER12-1880-013; ER12-2227-012 ER12-895-012; ER13-2474-008; ER13-712-014 ER14-2707-009; ER14-2708-010; ER14-2709-009 ER14-2710-009; ER15-1925-006; ER15-2676-005 ER15-30-007; ER15-58-007; ER16-1440-003; ER16-1672-003; ER16-2191-002; ER16-2240-002; ER16-2241-002; ER16-2275-002; ER16-2276-002; ER16-2297-002; ER16-2453-002.

Applicants: Blackwell Wind, LLC, Brady Interconnection, LLC, Brady Wind II, LLC, Breckinridge Wind Project, LLC, Cedar Bluff Wind, LLC, Chaves County Solar, LLC, Cimarron Wind Energy, LLC, Elk City Wind, LLC, Elk City II Wind, LLC, Ensign Wind, LLC, FPL Energy Cowboy Wind, LLC, FPL Energy Oklahoma Wind, LLC, FPL Energy Sooner Wind, LLC, Gray County Wind Energy, LLC, High Majestic Wind Energy Center, LLC, High Majestic Wind II, LLC, Kingman Wind Energy I, LLC, Kingman Wind Energy II, LLC, Mammoth Plains Wind Project, LLC, Minco Wind Interconnection Services, LLC, Minco Wind, LLC, Minco Wind II, LLC, Minco Wind III, LLC, Ninnescah Wind Energy, LLC, Osborn Wind Energy, LLC, Palo Duro Wind Interconnection Services, LLC, Palo Duro Wind Energy, LLC, Roswell Solar, LLC, Rush Springs Wind Energy, LLC, Seiling Wind Interconnection Services, LLC, Seiling Wind, LLC, Seiling Wind II, LLC, Steele Flats Wind Project, LLC, NEPM II, LLC, NextEra Energy Power Marketing, LLC.

Description: Notification of Non-material Change in Status of the NextEra Resources Entities.

Filed Date: 12/12/16.

Accession Number: 20161212-5283.

Comments Due: 5 p.m. ET 1/3/17.

Docket Numbers: ER17-311-000.

Applicants: SR South Loving LLC.

Description: Second Supplement to November 4, 2016 SR South Loving LLC tariff filing.

Filed Date: 12/9/16.

Accession Number: 20161209-5254.

Comments Due: 5 p.m. ET 12/19/16.

Docket Numbers: ER17-526-000.

Applicants: PacifiCorp.

Description: § 205(d) Rate Filing: BPA NITSA (Idaho Falls Power) Rev 1 to be effective 12/1/2016.

Filed Date: 12/12/16.

Accession Number: 20161212-5243.

Comments Due: 5 p.m. ET 1/3/17.

Docket Numbers: ER17-527-000.

Applicants: InterGen Energy Solutions, LLC.

Description: Baseline eTariff Filing: Application for Market-Based Rate Authorization to be effective 12/31/2016.

Filed Date: 12/12/16.

Accession Number: 20161212-5244.

Comments Due: 5 p.m. ET 1/3/17.

Docket Numbers: ER17-528-000.

Applicants: Baltimore Gas and Electric Company, PJM Interconnection, L.L.C.

Description: § 205(d) Rate Filing: BGE Revisions to Attachment H-2A Concerning Various Tax Issues to be effective 2/11/2017.

Filed Date: 12/13/16.

Accession Number: 20161213-5027.

Comments Due: 5 p.m. ET 1/3/17.

Docket Numbers: ER17-529-000.

Applicants: Midcontinent Independent System Operator, Inc., Dairyland Power Cooperative.

Description: § 205(d) Rate Filing: 2016-12-13_Dairyland Power Cooperative RTO Adder Request to be effective 3/1/2017.

Filed Date: 12/13/16.

Accession Number: 20161213-5062.

Comments Due: 5 p.m. ET 1/3/17.

Docket Numbers: ER17-530-000.

Applicants: Wheelabrator Ridge Energy Inc.

Description: § 205(d) Rate Filing: 2017 normal to be effective 2/12/2017.

Filed Date: 12/13/16.

Accession Number: 20161213-5082.

Comments Due: 5 p.m. ET 1/3/17.

Docket Numbers: ER17-531-000.

Applicants: Wheelabrator South Broward Inc.

Description: § 205(d) Rate Filing: 2017 South Normal to be effective 2/12/2017.

Filed Date: 12/13/16.

Accession Number: 20161213-5083.

Comments Due: 5 p.m. ET 1/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2016.
Nathaniel J. Davis, Sr.,
Deputy Secretary.

[FR Doc. 2016-30542 Filed 12-19-16; 8:45 am]

BILLING CODE 6717-01-P